SECURITIES AND EXCHANGE COMMISSION

Approval of Collection of Information; Extension of Expiration Date

Waiver of Auditor Consent and Reissued Accountants' Report: SEC File No. 270-503. OMB Control No. 3235-0558.

Temporary Relief for Certain Entities Audited by Arthur Andersen LLP: SEC File No. 270-502. OMB Control No. 3235-0557.

Notice is hereby given that, pursuant to the Paperwork Reduction Act of 1995 (44 U.S.C. 3501 et seq.), the Office of Management and Budget (OMB) has approved the Commission's collection of information entitled “Waiver of Auditor Consent and Reissued Accountants” Report” (OMB Control No. 3235-0558). In addition, OMB has granted the Commission's request for an extension of the expiration date for its approved collection entitled “Temporary Relief for Certain Entities Audited by Arthur Andersen LLP” (OMB Control No. 3235-0557). The new expiration date for this collection of information is December 31, 2002.

In March 2002, the Commission adopted rules and promulgated orders to assure a continuing and orderly flow of information to investors and the U.S. capital markets and to minimize potential disruptions that might occur as a result of the indictment of Arthur Andersen LLP.¹ These rules and orders contained collection of information requirements and the Commission submitted these requirements to OMB pursuant to 44 U.S.C. 3507, 5 CFR 1320.11, and 5 CFR 1320.13. OMB approved the collection of information requirements. An agency may not conduct or sponsor, and a person is not required to respond to, a collection of information unless it displays a currently valid OMB control number. Compliance with the disclosure requirements is mandatory for those taking advantage of the relief offered by the rules and orders. There is no mandatory retention period for the information disclosed, and responses to the disclosure requirements will not be kept confidential. Comments concerning the accuracy of the burden estimates described below and suggestions for reducing these burdens should be directed to Jonathan G. Katz, Secretary, Securities and Exchange Commission, 450 Fifth Street, NW., Washington, DC 20549-0609, with reference to File No. 270-502 or 270-503.

¹ Release Nos. 33-8070, 34-45589, IC-25463, IA-2017, 35-27502 (Mar. 18, 2002); 67 FR 13518 (Mar. 22, 2002).

Waiver of Auditor Consent and Reissued Accountants' Report. The Federal securities laws require companies to include in their registration statements the consent of auditors for use of their reports related to the three previous years' audits. For Andersen clients unable to obtain these consents, the rules adopted in March waived the obligation to obtain an auditor's consent for years before 2001, provided that the company discloses any limitations on remedies resulting from the lack of consents. In addition, the federal securities laws require certain issuers that change auditors to obtain from their predecessor auditor a reissued accountants' report for previously audited financial statements. Under the rules adopted in March, if the issuer is unable to obtain the accountants' report after reasonable efforts, the issuer may provide a copy of the latest previously issued accountants' report, as long as it discloses that the report is a copy of a report previously issued and that the report has not been reissued by Andersen. This collection of information is necessary to advise potential purchasers of securities and investors of certain information that they would not receive otherwise.

When we proposed this collection of information, we estimated that the disclosures associated with the waiver of consents would require one half hour, and that the disclosures associated with the waiver of the predecessor auditor's reissued report would also require one half hour. We estimated that the total number of burden hours associated with this collection of information would be 3,182.5. We solicited, but did not receive, comments on our estimates of the burden associated with this collection of information. The approval for this collection of information expires on May 31, 2005.

Temporary Relief for Certain Entities Audited by Arthur Andersen LLP (OMB Control No. 3235-0557. As described in detail in Release No. 33-8070 (Mar. 18, 2002), 67 FR 13518 (Mar. 22, 2002), this collection of information encompasses certain new disclosures required by certain clients of Andersen. In general, public companies for whom Andersen does not complete audits or reviews have been allowed to file unaudited financial statements, rather than audited ones, in order to meet existing periodic reporting, proxy statement, tender offer, and registration requirements, as long as they disclose that the financial statements are unaudited (or not reviewed), provide audited (or reviewed) financial statements at a later date, and explain any material differences between the unaudited and audited financial statements. In certain cases where Andersen clients were required to submit a consent or a reissued accountants' report from their auditor, but cannot obtain the consent or the reissued accountants' report, those requirements have been waived provided the filing includes appropriate disclosure. The disclosures regarding consents and reissued accountants' reports were also approved by OMB as the stand-alone collection of information described above. The collection of information is necessary to ensure that the market receives disclosure from clients of Andersen that are taking advantage of this relief. The collection of information supplies investors with information they may not otherwise have and helps prevent confusion.

When we adopted this collection of information ² we estimated that the total number of burden hours associated with this collection of information is 12,783. We requested approval from OMB to extend the expiration date for this collection of information. OMB granted this request. The new expiration date for this collection of information is December 31, 2002.

² Release No. 33-8090 (Mar. 18, 2002); 67 FR 13518 (Mar. 22, 2002).

Dated: September 30, 2002.
Margaret H. McFarland,
Deputy Secretary.

[FR Doc. 02-25162 Filed 10-2-02; 8:45 am]

BILLING CODE 8010-01-P